DEPARTMENT OF VETERANS AFFAIRS

Veterans' Advisory Committee on Rehabilitation, Notice of Meeting

The Department of Veterans Affairs (VA) gives notice under the Federal Advisory Committee Act, 5 U.S.C. App.2, that the Veterans' Advisory Committee on Rehabilitation (VACOR) will meet virtually on Wednesday, November 18—Thursday, November 19, 2020. The meeting sessions will begin and end as follow:

Date: | Time (eastern standard time):
November 18, 2020 | 10:45 a.m.-4:00 p.m.
November 19, 2020 | 11:00 a.m.-4:00 p.m.

The virtual meeting sessions are open to the public.

The purpose of the Committee is to provide advice to the Secretary of VA on the rehabilitation needs of Veterans with disabilities and on the administration of VA's Veteran rehabilitation programs. The Committee members will discuss previous recommendations that were included in the Committee's annual reports and receive briefings on current and potential VA partnerships designed to enhance the delivery of services for the rehabilitation potential of Veterans.

Time will be allocated for receiving oral comments from the public. Members of the public may submit written comments for review by the Committee to Latrese Arnold, Designated Federal Officer, Veterans Benefits Administration (28), 810 Vermont Avenue NW, Washington, DC 20420, or at Latrese.Arnold@va.gov. In the communication, writers must identify themselves and state the organization, association or person(s) they represent. For any members of the public that wish to attend virtually, they may use the WebEx link: https://veteransaffairs.webex.com/veteransaffairs/j.php?MTID=maa889b80e1572a687b69928cf44b367d, Meeting number (access code): 199 660 7472, Meeting password: cR3TsS2PR*3, 1-404-397-1596, 1996607472## USA Toll Number.

Dated: October 23, 2020.
LaTonya L. Small,
Federal Advisory Committee Management Officer.

[FR Doc. 2020-23911 Filed 10-28-20; 8:45 am]

BILLING CODE 8320-01-P